DEPARTMENT OF THE INTERIOR

Bureau of Indian Affairs

[189A2100DD/AAKC001030/A0A501010.999900 253G]

Notice of Establishment of the Bureau of Indian Education Standards, Assessments, and Accountability System Negotiated Rulemaking Committee; Notice of Meetings

AGENCY: Bureau of Indian Affairs, Interior.

ACTION: Notice of Establishment and notice of public meetings.

SUMMARY: The Department of the Interior is establishing the Bureau of Indian Education (BIE) Standards, Assessments, and Accountability System Negotiated Rulemaking Committee (Committee). The Committee will advise the Secretary of the Interior (Secretary) through the BIE and the Assistant Secretary—Indian Affairs on the development of regulations to fulfill the Secretary's responsibility to define standards, assessments, and accountability system consistent with ESEA section 1111, as amended, for schools funded by BIE on a national, regional, or Tribal basis, as appropriate, taking into account the unique circumstances and needs of such schools and the students served by such schools and the process for requesting a waiver for these definitions. This notice also announces the dates and locations of each of the public meetings of the Committee.

DATES: For a listing of the dates of each Committee meeting, refer to “Committee Meetings” under SUPPLEMENTARY INFORMATION section of this notice.

ADDRESSES: For a listing of the locations of each Committee meeting, refer to “Committee Meetings” under SUPPLEMENTARY INFORMATION section of this notice.

FOR FURTHER INFORMATION CONTACT: The Designated Federal Officer, Sue Bement, Education Program Specialist, Bureau of Indian Education, by any of the following methods:

• (Preferred method) Email to: BIEcomments@bia.gov;

• Mail, hand-carry or use an overnight courier service to the Designated Federal Officer, Ms. Sue Bement, C/O The Office of Regulatory Affairs and Collaborative Action, 1001 Indian School Road NW, Suite 312, Albuquerque, NM 87104.

• Telephone: (952) 851-5427.

SUPPLEMENTARY INFORMATION:

Background

On September 14, 2017, a notice in the Federal Register (82 FR 43199) announced the U.S. Department of the Interior's intent to form a negotiated rulemaking committee under the Every Student Succeeds Act (ESSA), the Negotiated Rulemaking Act, and the Federal Advisory Committee Act (5 U.S.C. Appendix 2). On April 17, 2018, a notice in the Federal Register (83 FR 16806) announced the proposed membership. The Committee will advise the Secretary through the BIE and the Assistant Secretary—Indian Affairs on the development of regulations to fulfill the Secretary's responsibility to define standards, assessments, and accountability system consistent with ESEA section 1111 (20 U.S.C. 6311), as amended, for schools funded by BIE on a national, regional, or Tribal basis, as appropriate, taking into account the unique circumstances and needs of such schools and the students served by such schools and the process for requesting a waiver for these definitions.

The April 17, 2018, notice discussed the issues to be negotiated and the interest group representatives proposed as members of the Committee.

The Secretary received additional proposed nominations in response to the April 17, 2018, notice and considered the nominations based on the qualifications outlined in the notice for approval. The nominees were approved to join the Committee and are included in this Federal Register Notice.

Committee Membership

The two nominees were received for consideration following the April 17, 2018, Federal Register notice and will now be appointed to the Committee.

Tribe(s) represented | Proposed committee members | Nominated by
Navajo Nation | Genevieve Jackson | Diné Bi Olta School Board Association, Inc.
Northwest Tribes | Dr. Amy McFarland | Chief Leschi Schools.

Committee Meetings

Revised regulations must be put in place as soon as possible, thus the Committee will be expected to meet frequently within a short time frame. The BIE expects to have three in-person meetings and one teleconference, with each in-person meeting lasting three days in length. The BIE has dedicated resources required to: Ensure the Committee is able to conduct meetings; provide technical assistance; and provide any additional support required to fulfill the Committee's responsibilities. The meeting dates and locations are as follows:

Date | Time | Location
Tuesday, September 25, 2018 Through Thursday, September 27, 2018 | Begin at 8:30 a.m. on September 25, and end at 4:30 p.m. on September 27, 2018, local time | Bureau of Indian Affairs, Rocky Mountain Regional Office, Medicine Wheel Room—3rd floor, 2021 Fourth Avenue North Billings, MT 59101.
Tuesday, October 30, 2018 Through Thursday, November 1, 2018 | Begin at 8:30 a.m. on October 30, and end at 4:30 p.m. on November 1, 2018, local time | Bureau of Indian Affairs, Southwest Regional Office, Pojoaque Classroom #271, 2nd floor, 1011 Indian School Road NW, Albuquerque, NM 87104.
Tuesday, December 4, 2018 Through Thursday, December 6, 2018 | Begin at 8:30 a.m. on December 4, and end at 4:30 p.m. on December 6, 2018, local time | Office of Hearings & Appeals, 2nd Floor Conference Room, 801 N Quincy Street, Arlington, VA 22203.
1/2-day Webinar, Spring 2019 | Begin at 11:30 a.m. and end at 2:30 p.m., Eastern Time | Via Teleconference, 1 (866) 818-9861, Participant code: 70319382, Refer to BIE Negotiated Rulemaking Committee website for additional information.

Detailed information about Committee meetings, including detailed agendas, can be accessed at https://www.bie.edu/Resources/NRMC/index.htm.

Agenda for BIE Standards, Assessments, and Accountability System Negotiated Rulemaking Committee

At the first meeting, the Committee will conduct introductions of members at the start of the meeting and will continue with the following items on the agenda:

• Review and discussion of Committee Operations including operating protocols and decision-making criteria;

• Overview and discussion of existing regulations (25 CFR part 30) implemented at BIE schools and an overview topic paper;

• Overview and discussion of ESSA Section 8007(2) and ESEA Section 1111 and standards, assessments, and accountability topic papers;

• Discussion of the Committee's tasks and approach to draft regulations including discussion of draft regulations, outline work; formation of subcommittees and tasks between the first and second meeting; and

• Public comments.

The second meeting will focus on edits to the draft preamble and the proposed rule, public comments, and reaffirm Committee tasks in preparation for the third meeting.

The third meeting will focus on the draft proposed rule for publication, seek consensus on the draft, schedule government-to-government consultations including what key information will be shared during consultation, and public comment.

The final meeting, via WebEx, will review public comments received, discuss any substantive comments that will affect the proposed rule, and seek consensus on a recommended approach to addressing the comments. The final meeting will include a close-out discussion about the process.

Written comments may be sent to the Designated Federal Officer listed in the FOR FURTHER INFORMATION CONTACT section above. Before including your address, phone number, email address, or other personal identifying information in your comment, you should be aware that your entire comment—including your personal identifying information—may be made publicly available at any time. While you can ask in your comment that the BIA withhold your personal identifying information from public review, the BIA cannot guarantee that it will be able to do so.

All meetings are open to the public; however, transportation, lodging, and means are the responsibility of the participating public.

Authority: The Elementary and Secondary Education Act of 1965, as amended, 20 U.S.C. 6301 et seq.

Dated: July 27, 2018.
John Tahsuda,
Principal Deputy Assistant Secretary—Indian Affairs, Exercising the Authority of the Assistant Secretary—Indian Affairs.

[FR Doc. 2018-16588 Filed 8-1-18; 8:45 am]

BILLING CODE 4337-15-P